DEPARTMENT OF HOUSING AND URBAN DEVELOPMENT

[Docket No. FR-5396-N-03]

Notice of Availability: Notice of Funding Availability (NOFA) for HUD's Fiscal Year 2010 Sustainable Communities Regional Planning Grant Program

AGENCY: Office of Sustainable Housing and Communities, Office of the Deputy Secretary, HUD.

ACTION: Notice.

SUMMARY: Through this notice, HUD announces the availability on its Web site of the application information, submission deadlines, funding criteria, and other requirements for the Fiscal Year 2010 NOFA for the Sustainable Communities Regional Planning Grant. This NOFA makes approximately $98 million in assistance available to support metropolitan and multijurisdictional planning efforts that integrate housing, land use, economic and workforce development, transportation, and infrastructure investments in a manner that empowers jurisdictions to consider the interdependent challenges of: (1) Economic competitiveness and revitalization; (2) social equity, inclusion, and access to opportunity; (3) energy use and climate change; and (4) public health and environmental impact. The notice providing information regarding the application process, funding criteria and eligibility requirements is available on Grants.gov Web site at http://www.grants.gov/search/. A link to Grants.gov is also available on the HUD Web site at http://www.hud.gov/offices/adm/grants/fundsavail.cfm. The Catalogue of Federal Domestic Assistance (CFDA) number for the FY2010 Sustainable Communities Regional Planning Grant Program is 14.703. Applications must be submitted electronically through Grants.gov.

FOR FURTHER INFORMATION CONTACT: Specific questions regarding the Sustainable Communities Regional Planning Grant Program requirements should be directed to: sustainablecommunities@hud.gov or may be submitted through the http://www.hud.gov/sustainability Web site. Written questions may also be submitted to Office of Sustainable Housing and Communities, Department of Housing and Urban Development, 451 7th Street, SW., Room 10180, Washington, DC 20410.

Dated: June 23, 2010.
Shelley Poticha,
Director, Office of Sustainable Housing and Communities.

[FR Doc. 2010-15717 Filed 6-28-10; 8:45 am]

BILLING CODE 4210-67-P